DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated in the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The Federal Emergency Management Agency (FEMA) makes the final determinations listed below for the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
California: Shasta (FEMA Docket No.: B-1077) | City of Shasta Lake (09-09-0170P) | July 20, 2009; July 27, 2009; Record Searchlight | Ms. Carol Martin, City of Shasta Lake Manager, P.O. Box 777, Shasta Lake, CA 96019 | July 10, 2009 | 060758
Colorado:
El Paso (FEMA Docket No.: B-1077) | City of Colorado Springs (09-08-0556P) | July 8, 2009; July 15, 2009; El Paso County Advertiser and News | The Honorable Lionel Rivera, Mayor, City of Colorado Springs, 30 South Nevada Avenue, Colorado Springs, CO 80903 | June 30, 2009 | 080060
Jefferson (FEMA Docket No.: B-1073) | City of Westminster (09-08-0595P) | July 9, 2009; July 16, 2009; Westminster Window | The Honorable Nancy McNally, Mayor, City of Westminster, 4800 West 92nd Avenue, Westminster, CO 80031 | November 13, 2009 | 080008
Florida:
Alachua (FEMA Docket No.: B-1073) | City of Alachua (09-04-0431P) | June 3, 2009; June 10, 2009; The Gainesville Sun | The Honorable Jean Calderwood, Mayor, City of Alachua, P.O. Box 9, Alachua, FL 32616 | October 8, 2009 | 120664
Alachua (FEMA Docket No.: B-1073) | Unincorporated areas of Alachua County (09-04-0431P) | June 3, 2009; June 10, 2009; The Gainesville Sun | The Honorable Mike Byerly, Chairman, Alachua County Board of Commissioners, P.O. Box 2877, Gainesville, FL 32602 | October 8, 2009 | 120001
Collier (FEMA Docket No.: B-1073) | City of Marco Island (09-04-4108P) | July 20, 2009; July 27, 2009; Naples Daily News | Mr. Steven T. Thompson, City of Marco Island Manager, 50 Bald Eagle Drive, Marco Island, FL 34145 | July 7, 2009 | 120426
Lake (FEMA Docket No.: B-1073) | Town of Lady Lake (09-04-2296P) | July 10, 2009; July 17, 2009; Daily Commercial | The Honorable Ruth Kussard, Mayor Pro-Tem, Town of Lady Lake, 409 Fennell Boulevard, Lady Lake, FL 32159 | November 16, 2009 | 120613
Lake (FEMA Docket No.: B-1073) | Unincorporated areas of Lake County (09-04-2296P) | July 10, 2009; July 17, 2009; Daily Commercial | The Honorable Welton G. Cadwell, Chairman, Lake County Board of Commissioners, P.O. Box 7800, Tavares, FL 32778 | November 16, 2009 | 120421
Idaho: Ada (FEMA Docket No.: B-1073) | Unincorporated areas of Ada County (09-10-0029P) | July 24, 2009; July 31, 2009; Idaho Statesman | The Honorable Fred Tilman, Chairman, Ada County Board of Commissioners, 200 West Front Street, Boise, ID 83702 | July 15, 2009 | 160001
Illinois:
Douglas (FEMA Docket No.: B-1073) | City of Tuscola (09-05-1421P) | July 15, 2009; July 22, 2009; Tuscola Journal | The Honorable Daniel J. Kleiss, Mayor, City of Tuscola, 214 North Main Street, Tuscola, IL 61953 | June 30, 2009 | 170195
Douglas (FEMA Docket No.: B-1073) | Unincorporated areas of Douglas County (09-05-1421P) | July 15, 2009; July 22, 2009; Tuscola Journal | The Honorable Wayne Schable, Chair, Douglas County Board of Supervisors, P.O. Box 467, Tuscola, IL 61953 | June 30, 2009 | 170194
Maryland: Montgomery (FEMA Docket No.: B-1077) | Unincorporated areas of Montgomery County (09-03-0599P) | July 30, 2009; August 6, 2009; Montgomery County Sentinel | The Honorable Isiah Leggett, Montgomery County Executive, Executive Office Building, 101 Monroe Street, 2nd Floor, Rockville, MD 20850 | July 24, 2009 | 240049
Nevada: Clark (FEMA Docket No.: B-1073) | Unincorporated areas of Clark County (09-09-1287P) | July 9, 2009; July 16, 2009; Las Vegas, Review-Journal | The Honorable Rory Reid, Chair, Clark County Board of Commissioners, 500 South Grand Central Parkway, Las Vegas, NV 89106 | June 25, 2009 | 320003
North Carolina:
Cabarrus (FEMA Docket No.: B-1073) | City of Kannapolis (08-04-5265P) | July 15, 2009; July 22, 2009; Independent Tribune | The Honorable Robert S. Misenheimer, Mayor, City of Kannapolis, P.O. Box 1199, Kannapolis, NC 28082 | July 6, 2009 | 370469
Cabarrus (FEMA Docket No.: B-1073) | Unincorporated areas of Cabarrus County (08-04-5265P) | July 15, 2009; July 22, 2009; The Charlotte Observer | Mr. John D. Day, Manager, Cabarrus County Governmental Center, P.O. Box 707, Concord, NC 28026 | July 6, 2009 | 370036
Ohio: Lorain (FEMA Docket No.: B-1077) | City of Avon (08-05-2056P) | January 12, 2009; January 19, 2009; Morning Journal | The Honorable James A. Smith, Mayor, City of Avon 36080 Chester Road Avon, OH 44011 | December 31, 2008 | 390348
Oklahoma:
Canadian (FEMA Docket No.: B-1073) | City of Oklahoma City (09-06-0829P) | July 16, 2009; July 23, 2009; The Oklahoman | The Honorable Mick Cornett, Mayor, City of Oklahoma City, 200 North Walker Street, 3rd Floor, Oklahoma City, OK 73102 | July 2, 2009 | 405378
Comanche (FEMA Docket No.: B-1077) | City of Lawton (08-06-1958P) | July 20, 2009; July 27, 2009; Lawton Constitution | The Honorable John Purcell, Mayor, City of Lawton, 3006 Northeast Muse Circle, Lawton, OK 72507 | July 15, 2009 | 400049
Tennessee:
Rutherford (FEMA Docket No.: B-1073) | Town of Smyrna (09-04-2810P) | July 8, 2009; July 15, 2009; Daily News Journal | The Honorable Bobby G. Spivey, Mayor, Town of Smyrna, 315 South Lowry Street, Smyrna, TN 37167 | November 12, 2009 | 470169
Rutherford (FEMA Docket No.: B-1073) | Unincorporated areas of Rutherford County (09-04-3370P) | July 8, 2009; July 15, 2009; Daily News Journal | The Honorable Ernest Burgess, Mayor, Rutherford County, County Courthouse, Room 101, Murfreesboro, TN 37130 | November 12, 2009 | 470165
Wilson (FEMA Docket No.: B-1073) | Unincorporated areas of Wilson County (09-04-3370P) | July 8, 2009; July 15, 2009; Wilson Post | The Honorable Robert Dedman, County Mayor, Wilson County, 228 East Main Street, Lebanon, TN 37087 | November 12, 2009 | 470165
Texas:
Fort Bend (FEMA Docket No.: B-1077) | Fort Bend County L.I.D. #7 (09-06-1930P) | July 23, 2009; July 30, 2009; Fort Bend Sun | The Honorable Epifanio Salazar, Chairman, Board of Directors, Fort Bend County L.I.D. #7, 1300 Post Oak Boulevard, Suite 1400, Houston, TX 77027 | July 17, 2009 | 481594
Fort Bend (FEMA Docket No.: B-1077) | City of Sugar Land (09-06-1930P) | July 23, 2009; July 30, 2009; Fort Bend Sun | The Honorable James A. Thompson, Mayor, City of Sugar Land, P.O. Box 110, Sugar Land, TX 77487 | July 17, 2009 | 480234
Fort Bend (FEMA Docket No.: B-1077) | Unincorporated areas of Fort Bend County (09-06-1930P) | July 23, 2009; July 30, 2009; Fort Bend Sun | The Honorable Robert E. Hebert, PhD, Fort Bend County Judge, 301 Jackson Street, Richmond, TX 77469 | July 17, 2009 | 480228
McLennan (FEMA Docket No.: B-1073) | City of Waco (09-06-0597P) | June 26, 2009; July 3, 2009; Waco Tribune-Herald | The Honorable Virginia DuPuy, Mayor, City of Waco, P.O. Box 2570, Waco, TX 76702 | November 2, 2009 | 480461
McLennan (FEMA Docket No.: B-1073) | Unincorporated areas of McLennan County (09-06-0597P) | June 26, 2009; July 3, 2009; Waco Tribune-Herald | The Honorable Jim Lewis, McLennan County Judge, P.O. Box 1728, Waco, TX 76701 | November 2, 2009 | 480456
Travis (FEMA Docket No.: B-1077) | City of Pflugerville (09-06-0609P) | July 30, 2009 August 6, 2009; Austin American-Statesman | The Honorable Jeff Coleman, Mayor, City of Pflugerville, P.O. Box 589, Pflugerville, TX 78691 | December 4, 2009 | 481028
Travis (FEMA Docket No.: B-1073) | City of Pflugerville (09-06-1373P) | July 23, 2009; July 30, 2009; Pflugerville Pflag | The Honorable Jeff Coleman, Mayor, City of Pflugerville, P.O. Box 589 Pflugerville, TX 78691 | November 30, 2009 | 481028
Travis (FEMA Docket No.: B-1077) | Unincorporated areas of Travis County (09-06-0609P) | July 30, 2009 August 6, 2009; Austin American-Statesman | The Honorable Samuel T. Biscoe, Travis County Judge, 314 West 11th Street, Suite 520, Austin, TX 78701 | December 4, 2009 | 481026
Webb (FEMA Docket No.: B-1077) | City of Laredo (08-06-2270P) | July 10, 2009; July 17, 2009; Laredo Morning Times | The Honorable Raul G. Salinas, Mayor, City of Laredo, 1110 Houston Street, Laredo, TX 78040 | November 16, 2009 | 480651
Webb (FEMA Docket No.: B-1077) | City of Laredo (08-06-2721P) | July 9, 2009; July 16, 2009; Laredo Morning Times | The Honorable Raul G. Salinas, Mayor, City of Laredo, 1110 Houston Street, Laredo, TX 78040 | November 10, 2009 | 480651
Webb (FEMA Docket No.: B-1077) | Unincorporated areas of Webb County (09-06-1293P) | August 4, 2009; August 11, 2009; Laredo Morning Times | The Honorable Danny Valdez, Webb County Judge, Webb County Courthouse, 1000 Houston Street, 3rd Floor, Laredo, TX 78040 | July 28, 2009 | 481059
Virginia: Loudoun (FEMA Docket No.: B-1073) | Town of Leesburg (08-03-1561P) | June 24, 2009; July 1, 2009; Loudoun Times-Mirror | The Honorable Kristen C. Umstattd, Mayor, Town of Leesburg, P.O. Box 88, Leesburg, VA 20178 | October 29, 2009 | 510091
Wisconsin:
Dane (FEMA Docket No.: B-1077) | Village of De Forest (09-05-0486P) | July 24, 2009; July 31, 2009; Wisconsin State Journal | The Honorable Jeff Miller, Village President, Village of De Forest, 306 De Forest Street, De Forest, WI 53532 | July 15, 2009 | 550082
Dane (FEMA Docket No.: B-1077) | Unincorporated areas of Dane County (09-05-0486P) | July 24, 2009; July 31, 2009; Wisconsin State Journal | The Honorable Kathleen M. Falk, Dane County Executive, City County Building, Room 118, 210 Martin Luther King, Jr. Boulevard, Madison, WI 53703 | July 15, 2009 | 550077
Wyoming: Sweetwater (FEMA Docket No.: B-1073) | City of Rock Springs (09-08-0320P) | July 14, 2009; July 21, 2009; Rock Springs Daily Rocket-Miner | The Honorable Timothy A. Kaumo, Mayor, City of Rock Springs, 212 D Street, Rock Springs, WY 82901 | November 18, 2009 | 560051

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12487 Filed 5-24-10; 8:45 am]

BILLING CODE 9110-12-P